DEPARTMENT OF THE INTERIOR

National Park Service

Notice of Inventory Completion: Athens County Historical Society and Museum, Athens, OH

AGENCY: National Park Service, Interior.

ACTION: Notice.

Notice is hereby given in accordance with the Native American Graves Protection and Repatriation Act (NAGPRA), 25 U.S.C. 3003, of the completion of an inventory of human remains in the possession of the Athens County Historical Society and Museum, Athens, OH. The human remains were removed from Athens County, OH.

This notice is published as part of the National Park Service's administrative responsibilities under NAGPRA, 25 U.S.C. 3003(d)(3). The determinations in this notice are the sole responsibility of the museum, institution, or Federal agency that has control of the Native American human remains. The National Park Service is not responsible for the determinations in this notice.

A detailed assessment of the human remains was made by Ohio University and the Athens County Historical Society and Museum professional staff in consultation with representatives of the Absentee-Shawnee Tribe of Indians of Oklahoma; Delaware Nation, Oklahoma; and Eastern Shawnee Tribe of Oklahoma.

In 1988, human remains representing a minimum of one individual were removed from the Coe Family Farm on Armitage Road, in Athens County, OH. On January 4, 2010, the human skull was found in a hatbox in the collections storage. According to a former museum curator, the human remains were removed by an Ohio University professor who considered himself an amateur archeologist. No known individual was identified. No associated funerary objects are present.

According to Dr. Nancy Tatarek, a forensic anthropologist from Ohio University, the wear and coloration of the skull indicated that it was at least 300+ years old. Dr. Tatarek used the shape of the nose cavity to identify cultural background. On a reasonable basis, the human remains may be Native American, and possibly female. Furthermore, there were no white settlements in the Athens County area 300 years ago.

Based on Indian land claims maps, the museum has determined the human remains have a shared group relationship with the Shawnee, which are represented by the Absentee-Shawnee Tribe of Indians of Oklahoma, Eastern Shawnee Tribe of Oklahoma and Shawnee Tribe, Oklahoma. Based on consultation, the museum has reasonably determined the human remains also have a shared group relationship with the Delaware, which are represented by the Delaware Nation, Oklahoma, and Delaware Tribe of Indians of Oklahoma.

Officials of the Athens County Historical Society and Museum have determined that, pursuant to 25 U.S.C. 3001(9), the human remains described above represent the physical remains of one individual of Native American ancestry. Officials of the Athens County Historical Society and Museum also have determined that, pursuant to 25 U.S.C. 3001(2), there is a relationship of shared group identity that can be reasonably traced between the Native American human remains and the Absentee-Shawnee Tribe of Indians of Oklahoma; Delaware Nation, Oklahoma; Delaware Tribe of Indians of Oklahoma; Eastern Shawnee Tribe of Oklahoma; and Shawnee Tribe, Oklahoma.

Representatives of any other Indian tribe that believes itself to be culturally affiliated with the human remains should contact Heather Reed, Curator/Education Coordinator, Athens County Historical Society and Museum, 65 N. Court St., Athens, OH 45701, telephone (740) 592-2280, before October 25, 2010. Repatriation of the human remains to the Absentee-Shawnee Tribe of Indians of Oklahoma; Delaware Nation, Oklahoma; Delaware Tribe of Indians of Oklahoma; Eastern Shawnee Tribe of Oklahoma; and Shawnee Tribe, Oklahoma, may proceed after that date if no additional claimants come forward.

Athens County Historical Society and Museum is responsible for notifying the Absentee-Shawnee Tribe of Indians of Oklahoma; Delaware Nation, Oklahoma; Delaware Tribe of Indians of Oklahoma; Eastern Shawnee Tribe of Oklahoma; and the Shawnee Tribe, Oklahoma, that this notice has been published.

Dated: September 10, 2010.
Sherry Hutt,
Manager, National NAGPRA Program.

[FR Doc. 2010-23904 Filed 9-23-10; 8:45 am]

BILLING CODE 4312-50-P